PEACE CORPS

Information Collection Request Under OMB Review

AGENCY: Peace Corps.

ACTION: 60-Day notice and request for comments.

SUMMARY: The Peace Corps will be submitting the following information collection request to the Office of Management and Budget (OMB) for reinstatement, without change, of a previously approved collection for which approval has expired. In compliance with the Paperwork Reduction Act of 1995 (44 U.S.C. chapter 35), the Peace Corps invites the general public to comment on this request for reinstatement, without change, of previously approved collection for which approval has expired, the National Agency Check (NAC) Questionnaire for Peace Corps Volunteer Background Investigation (OMB Control Number 0420-0001).

DATES: Submit comments on or before July 25, 2011.

ADDRESSES: Comments should be addressed to Denora Miller, Freedom of Information Act Officer. Denora Miller can be contacted by telephone at 202-692-1236 or e-mail at pcfr@peacecorps.gov. E-mail comments must be made in text and not in attachments.

FOR FURTHER INFORMATION CONTACT: Denora Miller at Peace Corps address above.

SUPPLEMENTARY INFORMATION: The NAC Questionnaire for Peace Corps Volunteer Background Investigation Form is used to conduct a formal background check. The data gathered is used to conduct a National Agency Check through the Office of Personnel Management who has pertinent records pertaining to applicants' legal activities and suitability.

OMB Control Number: 0420-0001.

Title: National Agency Check (NAC) Questionnaire for Peace Corps Volunteer Background Investigation.

Type of Review: Reinstatement, without change, of a previously approved collection for which approval has expired.

Affected Public: Potential and current volunteers.

Respondents' Obligation to Reply: Voluntary.

Burden to the Public:

a. Number of Average Applicants: 13,500.

b. Number of Applicants who submit NAC form: 13,500.

c. Frequency of response: One time.

d. Completion time: 15 minutes.

e. Annual burden hours: 3,375.

General Description of Collection: The NAC Questionnaire for Peace Corps Volunteer Background Investigation form is used to screen Peace Corps applicants for legal and/or criminal history. The information obtained on the form is provided to the Office of Personnel Management to obtain the necessary information as to an applicant's legal suitability for service. All applicants who complete the initial Peace Corps Application Form are then sent a “legal kit” to complete, which includes this form among others related to the applicants' suitability and a postage-paid return envelope.

Request for Comment: Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice issued in Washington, DC, on May 20, 2011.
Earl W. Yates,
Associate Director, Management.

[FR Doc. 2011-12939 Filed 5-24-11; 8:45 am]

BILLING CODE 6051-01-P